DEPARTMENT OF DEFENSE

Defense Acquisition Regulations System

[Docket Number DARS-2025-0137; OMB Control Number 0750-0008]

Information Collection Requirement; Defense Federal Acquisition Regulation Supplement (DFARS) Part 204, Contractor Implementation of Cybersecurity Requirements

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by October 10, 2025.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS) Part 204, Contractor Implementation of Cybersecurity Requirements; OMB Control Number 0750-0008.

Type of Request: New submission.

Affected Public: Businesses or other for-profit and not-for-profit institutions.

Respondent's Obligation: Required to obtain or retain benefits.

Frequency: On Occasion.

Number of Respondents: 1,493.

Responses per Respondent: Approximately 20.75.

Annual Responses: 30,990.

Average Burden per Response: Approximately 0.08 hour.

Annual Burden Hours: 2,582.

Needs and Uses: This information collection implements contractual reporting requirements related to the DoD policy for the Cybersecurity Maturity Model Certification (CMMC) (see 32 CFR part 170) and partially implements section 1648 of the National Defense Authorization Act for Fiscal Year 2020.

The contract clause at DFARS 252.204-7021 requires the affirming official of the contractor to complete an affirmation in the Supplier Performance Risk System (SPRS) to validate the CMMC level of each of the contractor information systems that will process, store, or transmit Federal contract information (FCI) or controlled unclassified information (CUI) and that are used in the performance of the contract. In addition, the clause requires the contractor to share with DoD any updates to the CMMC unique identifiers for information systems that process, store, or transmit FCI or CUI and that are used in the performance of the contract.

The solicitation provision at DFARS 252.204-7025 requires offerors to post the results of a CMMC Level 1 or Level 2 self-assessment to SPRS prior to contract award. The provision also requires offerors to identify the contractor information systems that will be used to process, store, or transmit FCI or CUI during performance of a contract resulting from the solicitation.

DoD uses the information submitted in response to the solicitation provision at DFARS 252.204-7025 to verify that an offeror's CMMC level meets the requirement for CMMC in the solicitation and to document the affirming official statement related to the CMMC status for all contractor information systems to be used in performance of a contract resulting from the solicitation. DoD uses the information submitted in response to the contract clause at DFARS 252.204-7021 to determine, prior to exercise of an option or extension of a period of performance, whether a contractor has the required CMMC status for all contractor information systems relevant to the contract.

DoD Clearance Officer: Mr. Tucker Lucas. Requests for copies of the information collection proposal should be sent to Mr. Lucas at whs.mc-alex.esd.mbx.dd-dod-information-collections@mail.mil.

Kimberly R. Ziegler,
Editor/Publisher, Defense Acquisition Regulations System.

[FR Doc. 2025-17321 Filed 9-9-25; 8:45 am]

BILLING CODE 6001-FR-P